ENVIRONMENTAL PROTECTION AGENCY

40 CFR Part 62

[ME-062-7011b; A-1-FRL-7491-8]

Approval and Promulgation of Air Quality Implementation Plans; Maine; Total Reduced Sulfur From Kraft Paper Mills

AGENCY: Environmental Protection Agency (EPA).

ACTION: Proposed rule.

SUMMARY: EPA is proposing to approve a revision to Maine's plan for controlling air pollution according to section 111(d) of the Clean Air Act (i.e. a “111(d) plan”). This revision changes state regulations controlling the emission of total reduced sulfur (TRS) from existing kraft paper mills. In the Final Rules section of this Federal Register, EPA is approving the State's submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

DATES: Written comments must be received on or before June 2, 2003.

ADDRESSES: Comments may be mailed to Steve Rapp, Unit Manager, Air Permits, Toxics, and Indoor Programs Unit, Office of Ecosystem Protection (mail code CAP), U.S. Environmental Protection Agency, EPA-New England, One Congress Street, Suite 1100, Boston, MA 02114-2023. Copies of the State submittal and EPA's technical support document are available for public inspection during normal business hours, by appointment at the Office of Ecosystem Protection, U.S. Environmental Protection Agency, EPA-New England, One Congress Street, 11th floor, Boston, MA and the Bureau of Air Quality Control, Department of Environmental Protection, First Floor of the Tyson Building, Augusta Mental Health Institute Complex, Augusta, ME 04333-0017.

FOR FURTHER INFORMATION CONTACT: Ian D. Cohen, (617) 918—1655.

SUPPLEMENTARY INFORMATION: For additional information, see the direct final rule which is located in the Rules section of this Federal Register.

Dated: April 21, 2003.
Robert W. Varney,
Regional Administrator, EPA-New England.

[FR Doc. 03-10758 Filed 4-30-03; 8:45 am]

BILLING CODE 6560-50-P